DEPARTMENT OF COMMERCE

International Trade Administration

[A-570-848]

Freshwater Crawfish Tail Meat From the People's Republic of China: Initiation of Antidumping Duty New Shipper Review

AGENCY: Import Administration, International Trade Administration, Department of Commerce.

DATES: Effective Date: October 30, 2012.

SUMMARY: The Department of Commerce (“Department”) has determined that a request for a new shipper review (“NSR”) of the antidumping duty order on freshwater crawfish tail meat from the People's Republic of China (“PRC”), meets the statutory and regulatory requirements for initiation. The period of review (“POR”) for this NSR is September 1, 2011, through August 31, 2012.

FOR FURTHER INFORMATION CONTACT: Dustin Ross, AD/CVD Operations, Office 1, Import Administration, International Trade Administration, U.S. Department of Commerce, 14th Street and Constitution Avenue NW., Washington, DC 20230; Telephone: 202-482-0747.

SUPPLEMENTARY INFORMATION:

Background

The antidumping duty order on freshwater crawfish tail meat from the PRC published in the Federal Register on September 15, 1997.¹ On September 28, 2012, pursuant to section 751(a)(2)(B)(i) of the Tariff Act of 1930, as amended (“Act”), we received a timely request for an NSR of the antidumping duty order on freshwater crawfish tail meat from the PRC from Deyan Aquatic Products and Food Co., Ltd. (“Deyan Aquatic”).² Deyan Aquatic certified that it is both the producer and exporter of the subject merchandise upon which the request was based.³

¹ See Notice of Amendment to Final Determination of Sales at Less Than Fair Value and Antidumping Duty Order: Freshwater Crawfish Tail Meat From the People's Republic of China, 62 FR 48218 (September 15, 1997).

² See Freshwater Crawfish Tail Meat from the People's Republic of China: New Shipper Review Request, dated September 28, 2012.

³ See id. at 1.

Pursuant to section 751(a)(2)(B)(i)(I) of the Act and 19 CFR 351.214(b)(2)(i), Deyan Aquatic certified that it did not export subject merchandise to the United States during the period of investigation (“POI”).⁴ In addition, pursuant to section 751(a)(2)(B)(i)(II) of the Act and 19 CFR 351.214(b)(2)(iii)(A), Deyan Aquatic certified that, since the initiation of the investigation, it has never been affiliated with any exporter or producer who exported subject merchandise to the United States during the POI, including those respondents not individually examined during the POI.⁵ As required by 19 CFR 351.214(b)(2)(iii)(B), Deyan Aquatic also certified that its export activities were not controlled by the government of the PRC.⁶

⁴ Id. at Ex. 2.

⁵ Id.

⁶ Id.

In addition to the certifications described above, pursuant to 19 CFR 351.214(b)(2), Deyan Aquatic submitted documentation establishing the following: (1) The date on which Deyan Aquatic first shipped subject merchandise for export to the United States; (2) the volume of its first shipment; and (3) the date of its first sale to an unaffiliated customer in the United States.⁷

⁷ Id. at Ex. 1.

Initiation of New Shipper Review

Pursuant to section 751(a)(2)(B) of the Act and 19 CFR 351.214(d)(1), the Department finds that Deyan Aquatic's request meets the threshold requirements for initiation of an NSR for the shipment of freshwater crawfish tail meat from the PRC produced and exported by Deyan Aquatic.⁸

⁸ See Memorandum to the file, from Dustin Ross, Operations Analyst, “Initiation Checklist of AD New Shipper Review: Freshwater Crawfish Tailmeat from the People's Republic of China (A-570-848),” dated concurrently with this notice. See also “Memorandum to the File,” from Dustin Ross, Operations Analyst, “Freshwater Crawfish Tailmeat from the People's Republic of China: Placing CBP data on the Record,” dated concurrently with this notice.

The POR for this NSR is September 1, 2011, through August 31, 2012. See 19 CFR 351.214(g)(1)(i)(A). The Department intends to issue the preliminary results of this review no later than 180 days from the date of initiation and final results of this review no later than 270 days from the date of initiation. See section 751(a)(2)(B)(iv) of the Act.

It is the Department's usual practice, in cases involving non-market economy countries, to require that a company seeking to establish eligibility for an antidumping duty rate separate from the country-wide rate provide evidence of de jure and de facto absence of government control over the company's export activities. Accordingly, we will issue a questionnaire to Deyan Aquatic, which will include a section requesting information concerning Deyan Aquatic's eligibility for a separate rate. The review will proceed if the response provides sufficient indication that Deyan Aquatic is not subject to either de jure or de facto government control with respect to its export of subject merchandise.

We will instruct U.S. Customs and Border Protection to allow, at the option of the importer, the posting, until the completion of the review, of a bond or security in lieu of a cash deposit for each entry of the subject merchandise from Deyan Aquatic in accordance with section 751(a)(2)(B)(iii) of the Act and 19 CFR 351.214(e). Because Deyan Aquatic certified that it produced and exported the subject merchandise, the sale of which is the basis for this NSR request, we will apply the bonding privilege to Deyan Aquatic only for subject merchandise which Deyan Aquatic both produced and exported.

To assist in its analysis of the bona fides of Deyan Aquatic's sales, upon initiation of this NSR, the Department will require Deyan Aquatic to submit on an ongoing basis complete transaction information concerning any sales of subject merchandise to the United States that were made subsequent to the POR.

Interested parties requiring access to proprietary information in this NSR should submit applications for disclosure under administrative protective order in accordance with 19 CFR 351.305 and 351.306. This initiation and notice are published in accordance with section 751(a)(2)(B) of the Act and 19 CFR 351.214 and 351.221(c)(1)(i).

Dated: October 24, 2012.
Christian Marsh,
Deputy Assistant Secretary for Antidumping and Countervailing Duty Operations.

[FR Doc. 2012-26660 Filed 10-29-12; 8:45 am]

BILLING CODE 3510-DS-P